DEPARTMENT OF THE INTERIOR

Bureau of Land Management

[MT-070-02-1020-PG]

Resource Advisory Council Meeting, Butte, Montana.

AGENCY: Bureau of Land Management, Interior.

ACTION: Notice of meeting.

SUMMARY: The Western Montana Resource Advisory Council will convene on June 10, 2002, at 9:00 a.m., at the BLM Butte Field Office, 106 North Parkmont, Butte, Montana, 59701.

Primary topics for the meeting will be updates from the RAC Subgroups on Areas of Critical Environmental Concern (ACECs) and Travel Management.

The meeting is open to the public and the public comment period is set for 11:30 a.m. The public may make oral statements before the Council or file written statements for the Council to consider. Depending on the number of persons wishing to make an oral statement, a per person time limit may be established. Summary minutes of the meeting will be available for public inspection and copying during regular business hours. Individuals who plan to attend and need further information about the meeting, or who need special assistance, such as sign language or other reasonable accommodations, should contact Marilyn Krause, Resource Advisory Council Coordinator, at the Butte Field Office, 106 North Parkmont, Butte, Montana 59701, telephone 406-533-7617.

FOR FURTHER INFORMATION CONTACT: Richard Hotaling, Field Manager, 406-533-7600 or Marilyn Krause at the above address and telephone number.

SUPPLEMENTARY INFORMATION: The purpose of the Council is to advise the Secretary of the Interior, through the BLM, on a variety of planning and management issues associated with public land management. The 15 member Council includes individuals who have expertise, education, training or practical experience in the planning and management of public lands and their resources and who have a knowledge of the geographical jurisdiction of the Council.

Dated: March 13, 2002.
Richard M. Hotaling,
Field Manager.

[FR Doc. 02-11256 Filed 5-6-02; 8:45 am]

BILLING CODE 4310-$$-P